DEPARTMENT OF ENERGY

Federal Energy Regulatory Commission

[Docket Nos. IC10-60-000, IC10-61-000, and IC10-555A-000]

Commission Information Collection Activities (FERC Form 60, FERC-61, and FERC-555A); Comment Request; Extensions

October 8, 2009.

AGENCY: Federal Energy Regulatory Commission.

ACTION: Notice of proposed information collections and request for comments.

SUMMARY: In compliance with the requirements of section 3506(c)(2)(a) of the Paperwork Reduction Act of 1995 (Pub. L. 104-13), the Federal Energy Regulatory Commission (Commission or FERC) is soliciting public comment on the specific aspects of the information collections described below.

DATES: Comments in consideration of the collections of information are due December 15, 2009.

ADDRESSES: Comments may be filed either electronically or in paper format, and should refer to Docket Nos. IC10-60-000, IC10-61-000, and IC10-555A-000. (If comments apply to only one or two of the collections, indicate the corresponding docket numbers.) Documents must be prepared in an acceptable filing format and in compliance with the Federal Energy Regulatory Commission submission guidelines at http://www.ferc.gov/help/submission-guide.asp.

Comments may be filed electronically via the eFiling link on the Commission's Web site at http://www.ferc.gov. First time users will have to establish a user name and password (http://www.ferc.gov/docs-filing/eregistration.asp) before eFiling. The Commission will send an automatic acknowledgement to the sender's e-mail address upon receipt of comments through eFiling.

Commenters filing electronically should not make a paper filing. Commenters that are not able to file electronically must send an original and 14 copies of their comments to: Federal Energy Regulatory Commission, Secretary of the Commission, 888 First Street, NE., Washington, DC 20426.

All comments and FERC issuances may be viewed, printed or downloaded remotely through FERC's Web site using the “eLibrary” link and searching on Docket Nos. IC10-60-000, IC10-61-000, and IC10-555A-000. For user assistance, contact FERC Online Support (e-mail at ferconlinesupport@ferc.gov, or call toll-free at (866) 208-3676, or for TTY, contact (202) 502-8659).

FOR FURTHER INFORMATION: Ellen Brown may be reached by telephone at (202) 502-8663, by fax at (202) 273-0873, and by e-mail at ellen.brown@ferc.gov.

SUPPLEMENTARY INFORMATION: OMB Control Number 1902-0215 currently includes three information collections:

• FERC Form 60, “Annual Report of Centralized Service Companies”,¹ pursuant to 18 CFR 369.1 and 366.23, with details at http://www.ferc.gov/docs-filing/eforms/form-60/form-60.pdf,

¹ This Notice in Docket No. IC10-60 is a separate proceeding from the recent Notice of Proposed Rulemaking (NOPR) that FERC issued on September 17, 2009, in Docket No. RM09-21-000 (“Revised Filing Requirements for Centralized Service Companies Under the Public Utility Holding Company Act of 2005, the Federal Power Act, and the Natural Gas Act”). The NOPR in Docket No. RM09-21-000 proposes some clarifications related to the FERC Form 60. Docket No. RM09-21 is not a subject of this Notice in Docket No. IC10-60. Comments on Docket No. RM09-21-000 should be submitted in Docket No. RM09-21-000, and not in Docket No. IC10-60.

• FERC-61 (“Narrative Description Of Service Company Functions”), pursuant to 18 CFR 366.23, and

• FERC-555A (“Preservation of Records of Holding Companies and Service Companies Subject to PUHCA” [Public Utility Holding Company Act of 2005]), record retention requirements, pursuant to 18 CFR 366.22, and Parts 367 and 368.

On August 8, 2005, the Energy Policy Act of 2005 was signed into law, repealing the Public Utility Holding Company Act of 1935 (PUHCA 1935) and enacting the Public Utility Holding Company Act of 2005 (PUHCA 2005). Section 1264 (federal books and records access provision) and Section 1275 (non-power goods and services provision) of PUHCA 2005 supplemented FERC's existing ratemaking authority under the Federal Power Act (FPA) to protect customers against improper cross-subsidization or encumbrances of public utility assets, and similarly, FERC's ratemaking authority under the Natural Gas Act (NGA). These provisions of PUHCA 2005 supplemented the FERC's broad authority under FPA Section 301 and NGA Section 8 to obtain the books and records of regulated companies and any person that controls or is controlled by such companies if relevant to jurisdictional activities.

FERC Form 60. Form No. 60 is an annual reporting requirement under 18 CFR 366.23 for centralized service companies. The report is designed to collect financial information (including balance sheet, assets, liabilities, billing and charges for associated and non-associated companies) from centralized service companies subject to the jurisdiction of the FERC. Unless the holding company system is exempted or granted a waiver by Commission rule or order pursuant to 18 CFR 366.3 and 366.4, every centralized service company in a holding company system must prepare and file electronically with the FERC the Form No. 60, pursuant to the General Instructions in the form.

FERC-61. FERC-61 is a filing requirement for service companies in holding company systems (including special purpose companies) that are currently exempt or granted a waiver of FERC's regulations and would not have to file FERC Form 60. Instead, those service companies are required to file, on an annual basis, a narrative description of the service company's functions during the prior calendar year (FERC-61). In complying, a holding company may make a single filing on behalf of all of its service company subsidiaries.

FERC-555A. FERC prescribed a mandated preservation of records requirement for holding companies and service companies (unless otherwise exempted by FERC). This requires them to maintain and make available to FERC their books and records. The preservation of records requirement provides for uniform records retention by holding companies and centralized service companies subject to PUHCA 2005.

Data from the FERC Form 60, FERC-61, and FERC-555A provide a level of transparency that: (1) Helps protect ratepayers from pass-through of improper service company costs, (2) enables FERC to review and determine cost allocations (among holding company members) for certain non-power goods and services, (3) aids FERC in meeting its oversight and market monitoring obligations, and (4) benefits the public, both as ratepayers and investors. In addition, the records are used by the FERC's audit staff during compliance reviews and special analyses.

If data from the FERC Form 60, FERC-61, and FERC-555A were not available, FERC would not be able to meet its statutory responsibilities, under EPAct 1992, EPAct of 2005, and PUHCA 2005, and FERC would not have all of the regulatory mechanisms necessary to ensure customer protection.

ACTION: The Commission is requesting a three-year extension of the current FERC Form 60, FERC-61, and FERC-555A requirements, with no changes.

Burden Statement: The estimated, average annual public reporting burden ² follows.

² Employees work an average of 2,080 hours per year and cost an estimated $128,297 per year. The average hourly cost is $61.68125/hour [($128,297/year)/(2080 hours/year)].

FERC information collection | Annual no. of respondents (1) | Average no. of responses per respondent (2) | Average burden hours per response (3) | Total annual burden hours (1) × (2) × (3)
FERC Form 60 | 34 | 1 | 32.718 | 1,112
FERC-61 | 22 | 1 | .500 | 11
FERC-555A | 100 | 1 | 1,080.000 | 108,000
Totals |  |  |  | 109,123
[Note: The figures may not be exact, due to rounding.]

The total estimated annual cost burdens to respondents follow.

FERC information collection | Annual burden (Hrs.) (1) | Average cost ($) per hour (2) | Total annual cost ($) (1) × (2)
FERC Form 60 ² | 1,112 | $61.68125/hour | $68,589.55
FERC-61 ² | 11 | $61.68125/hour | $678.49
FERC-555A ³ | 108,000 |  | $1,912,341.25 ³
Totals |  |  | $1,981,609.29

³ Based on an estimated 120 cubic feet of paper records per respondent, the total estimated annual cost to all respondents is $1,912,341.25 [$1,836,000 (for staffing), plus $76,341.25 (for storage)]. However, the storage of paper (and related record retention and access) is more expensive than electronic storage, so savings are accomplished when documents are stored electronically (e.g., by using on-line electronic storage or removable storage media like CD-ROM or thumb drives). It would appear that these records are likely stored electronically, so the estimated cost ($1,912,341.25) of storage for paper only is the worst case estimate.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimates of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collections of information are necessary for the proper performance of the functions of the Commission, including whether the information will have practical utility; (2) the accuracy of the agency's estimates of the burden of the proposed collections of information, including the validity of the methodology and assumptions used; (3) ways to enhance the quality, utility and clarity of the information to be collected; and (4) ways to minimize the burdens of the collections of information on those who are to respond, including the use of appropriate automated, electronic, mechanical, or other technological collection techniques or other forms of information technology, e.g. permitting electronic submission of responses.

Kimberly D. Bose,
Secretary.

[FR Doc. E9-24912 Filed 10-15-09; 8:45 am]

BILLING CODE 6717-01-P